BROADCASTING BOARD OF GOVERNORS

Sunshine Act Meeting

DATE AND TIME: Friday, January 13, 2012, 2 p.m.

PLACE: Cohen Building, Room 3321, 330 Independence Ave., SW., Washington, DC 20237.

SUBJECT: Correction: Notice of Meeting of the Broadcasting Board of Governors.

SUMMARY: The Broadcasting Board of Governors (BBG) will be meeting at the time and location listed above. At the meeting, the BBG will announce its meeting schedule for calendar year 2012, discuss and consider new BBG Committee assignments, and receive and consider recommendations regarding the implementation of the Agency's strategic plan for 2012-2016. The BBG will also consider a resolution on interference of BBG broadcasts as well as a resolution honoring the 70th anniversary of the Voice of America (VOA), recognize the anniversaries of Agency language services, receive a budget update, and receive and consider a proposal to repurpose Internet censorship circumvention funds. The BBG will receive reports from the International Broadcasting Bureau Director, the VOA Director, the Office of Cuba Broadcasting Director, and the Presidents of Radio Free Europe/Radio Liberty, Radio Free Asia, and the Middle East Broadcasting Networks. The meeting is open to public observation via streamed webcast, both live and on-demand, on the BBG's public Web site at www.bbg.gov.

CONTACT PERSON FOR MORE INFORMATION: Persons interested in obtaining more information should contact Paul Kollmer-Dorsey at (202) 203-4545.

Paul Kollmer-Dorsey,
Deputy General Counsel.

[FR Doc. 2012-429 Filed 1-9-12; 11:15 am]

BILLING CODE 8610-01-P